DEPARTMENT OF TRANSPORTATION

Federal Aviation Administration

14 CFR Part 71

[Airspace Docket No. 00-ASO-22]

Establishment of Class D Airspace; Boca Raton, FL

AGENCY: Federal Aviation Administration (FAA), DOT.

ACTION: Final rule; correction.

SUMMARY: This action corrects an error in the airspace description of a final rule that was published in the Federal Register on August 7, 2000, (65 FR 48146), Airspace Docket No. 00-ASO-22. The final rule establishes Class D airspace at Boca Raton, FL.

EFFECTIVE DATE: August 21, 2000.

FOR FURTHER INFORMATION CONTACT: Nancy B. Shelton, Manager, Airspace Branch, Air Traffic Division, Federal Aviation Administration, P.O. Box 20636, Atlanta, Georgia 30320; telephone (404) 305-5627.

SUPPLEMENTARY INFORMATION:

History

Federal Register Document 00-19852, Airspace Docket No. 00-ASO-22, published on August 7, 2000, (65 FR 48146), established Class D airspace at Boca Raton, FL. The airspace description inadvertently omitted language excluding the Class D airspace area at Pompano Beach, FL. This action corrects the error.

Correction to Final Rule

Accordingly, pursuant to the authority delegated to me, the airspace description for the Class D airspace area Boca Raton, FL, incorporated by reference at Sec. 71-1 and published in the Federal Register on August 7, 2000 (65 FR 48146), is corrected as follows:

§ 71.71 [Corrected]

* * * * *

ASO FL E5 Boca Raton, FL [Corrected]

On page 48147, column 2, line 4 of the airspace description, correct the airspace description by adding “; excluding that airspace within the Pompano Beach, Class D airspace area.” after “Airport”.

* * * * *

Issued in College Park, Georgia, on August 10, 2000.
Wade T. Carpenter,
Acting Manager, Air Traffic Division, Southern Region.

[FR Doc. 00-21129 Filed 8-18-00; 8:45 am]

BILLING CODE 4910-13-M